DEPARTMENT OF THE INTERIOR

National Park Service

[NPS-WASO-NAGPRA-NPS0039487; PPWOCRADN0-PCU00RP14.R50000]

Notice of Intended Disposition: U.S. Department of Agriculture, Forest Service, Gila National Forest, Silver City, NM

AGENCY: National Park Service, Interior.

ACTION: Notice.

SUMMARY: In accordance with the Native American Graves Protection and Repatriation Act (NAGPRA), the U.S. Department of Agriculture, Forest Service, Gila National Forest (GNF) intends to carry out the disposition of human remains and associated funerary objects removed from Federal or Tribal lands to the lineal descendants, Indian Tribe, or Native Hawaiian organization with priority for disposition in this notice.

DATES: Disposition of the human remains and associated funerary objects in this notice may occur on or after April 17, 2025. If no claim for disposition is received by March 18, 2026, the human remains and associated funerary objects in this notice will become unclaimed human remains and associated funerary objects.

ADDRESSES: Camille Howes, GNF Forest Supervisor, 3005 Camino del Bosque, Silver City, NM 88061, telephone (575) 937-4878, email Camille.Howes@usda.gov.

SUPPLEMENTARY INFORMATION: This notice is published as part of the National Park Service's administrative responsibilities under NAGPRA. The determinations in this notice are the sole responsibility of the GNF, and additional information on the human remains and associated funerary objects in this notice, including the results of consultation, can be found in the related records. The National Park Service is not responsible for the identifications in this notice.

Abstract of Information Available

Based on the information available, human remains representing, at least, one individuals have been reasonably identified. No associated funerary objects are present. On April 19, 2015, a hiker inadvertently discovered human remains, along Brannon Park Trail 700, in the Gila Wilderness Area, within the GNF, Wilderness Ranger District, in Grant County, New Mexico. Archaeological reconnaissance did not reveal archaeological material nor a disturbed site.

Based on the information available, human remains representing, at least, one individuals have been reasonably identified. The one lot of associated funerary objects are stones. The individual was removed April 13, 2021 on the GNF, Quemado Ranger District, within Catron County, New Mexico. Law enforcement believed the remains belonged to a potential homicide or missing person. The New Mexico State Police (NMSP) Crime Scene Team were notified and excavated the remains, taking them to the Office of the Medical Investigator (OMI, Case 2021-03086) in Albuquerque, New Mexico. Archaeological material was not found in the immediate area. The location is not within a previously recorded archaeological site. An OMI Forensic Anthropologist released the remains back to GNF November 8, 2021, as the remains did not indicate medico-legal significance.

Determinations

The GNF has determined that:

• The human remains described in this notice represent the physical remains of two individuals of Native American ancestry.

• The one lot of objects described in this notice are reasonably believed to have been placed intentionally with or near individual human remains at the time of death or later as part of the death rite or ceremony.

• The Fort Sill Apache Tribe of Oklahoma; Hopi Tribe of Arizona; Mescalero Apache Tribe of the Mescalero Reservation, New Mexico; Pueblo of Acoma, New Mexico; and the Zuni Tribe of the Zuni Reservation, New Mexico and have priority for disposition of the human remains and associated funerary objects described in this notice.

Claims for Disposition

Written claims for disposition of the human remains and associated funerary objects in this notice must be sent to the appropriate official identified in this notice under ADDRESSES. If no claim for disposition is received by March 18, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after April 17, 2025. If competing claims for disposition are received, the GNF must determine the most appropriate claimant prior to disposition. Requests for joint disposition of the human remains and associated funerary objects are considered a single request and not competing requests. The GNF is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: February 4, 2025.
Melanie O'Brien,
Manager, National NAGPRA Program.

[FR Doc. 2025-04377 Filed 3-17-25; 8:45 am]

BILLING CODE 4312-52-P